DEPARTMENT OF THE INTERIOR

U.S. Geological Survey

Request for Public Comments on Information Collection To Be Submitted to OMB for Review Under the Paperwork Reduction Act

The proposal for the information collection described below will be submitted to the Office of Management and Budget for approval under the provisions of the Paperwork Reduction Act (44 U.S.C. Chapter 35). Copies of the proposed collection of information may be obtained by contacting the Bureau's clearance officer at the phone number listed below. Comments and suggestions on the proposal should be made within 60 days directly to the Bureau clearance officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: Visitor knowledge and economic impact at Arapaho National Wildlife Refuge, Walden, Colorado.

OMB Approval No.: New collection.

Abstract: The National Wildlife Refuge System Improvement Act of 1997 requires that all refuges will be managed in accordance with an approved Comprehensive Conservation Plan (CCP) which, when implemented, will achieve refuge purposes; help fulfill the Refuge System mission; maintain and, where appropriate, restore the ecological integrity of each refuge and the Refuge System; help achieve the goals of the Wilderness Preservation System; and meet other mandates. An underlying component of these plans is a strong scientific foundation for establishment for refuge objectives, implementation of management actions, and quantitative monitoring of progress towards these objectives. Few studies have been conducted that evaluate public knowledge, perception, or economic value associated with National Wildlife Refuges. Information about the existing community, economic, and public relations status is a precursor to many of the habitat and visitor management decisions. The primary objective of this study is to gain sufficient knowledge about refuge visitors. Our second objective is to develop and test a set of tools that can be used/repeated at other refuges around the country. Understanding public knowledge, perception, and values is a vital component of natural resource management. Improved understanding will guide future management practices.

Bureau Form No.: None.

Frequency: One time.

Description of Respondents: Arapaho National Wildlife Refuge visitor or group of visitors.

Estimated Completion Time: 10 minutes per respondent (approximate).

Number of Respondents: 400 (575 surveys).

Burden hours: 67 hours (The burden estimates are based on 10 minutes to complete each questionnaire and a 70% return rate).

All comments concerning this notice should be addressed to Phadrea Ponds, Wildlife Biologist, 970-226-9445; or Lynne Caughlan, Economist, 970-226-9384; or Ayeisha Brinson, Wildlife Ecologist, 970-226-9330. U.S. Geological Survey, Biological Resources Division, Social, Economic and Institutional Analysis Section, 4512 McMurry Avenue, Fort Collins, CO 80525-3400.

For Additional Information Please Contact: Phadrea Ponds (970) 226-9445. phadreaponds@usgs.gov.

Dated: February 16, 2001.
Susan Haseltine,
Chief Scientist for Biology.

[FR Doc. 01-4830 Filed 2-27-01; 8:45 am]

BILLING CODE 4310-Y7-M